DEPARTMENT OF EDUCATION

[Docket No.: ED-2023-SCC-0120]

Agency Information Collection Activities; Comment Request; Direct Loan, FFEL, Perkins and TEACH Grant Total and Permanent Disability Discharge Application and Related Forms

AGENCY: Federal Student Aid, Department of Education (ED).

ACTION: Notice.

SUMMARY: In accordance with the Paperwork Reduction Act of 1995, ED is requesting the Office of Management and Budget (OMB) to conduct an emergency review of a revision of a currently approved information collection.

DATES: The Department requested emergency processing from OMB for this information collection request on June 28th, 2023. As a result, the Department is providing the public with the opportunity to comment under the full comment period. Interested persons are invited to submit comments on or before September 8, 2023.

ADDRESSES: To access and review all the documents related to the information collection listed in this notice, please use http://www.regulations.gov by searching the Docket ID number ED-2023-SCC-0120. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Beth Grebeldinger, 202-377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Direct Loan, FFEL, Perkins and TEACH Grant Total and Permanent Disability Discharge Application and Related Forms.

OMB Control Number: 1845-0065.

Type of Review: A revision of a currently approved ICR.

Respondents/Affected Public: Individuals and Households.

Total Estimated Number of Annual Responses: 61,629.

Total Estimated Number of Annual Burden Hours: 30,814.

Abstract: The Department of Education (Department) requested emergency processing for this revision of the information collection, 1845-0065, Total and Permanent Disability (TPD) Discharge Application and Related Forms; and therefore, is requesting the 60-day public comment period for the full ICR. The regulations governing TPD discharges of Federal student loans and TEACH Grant service obligations are contained in 34 CFR 685.213 for the Direct Loan Program, 34 CFR 682.402(c) for the FFEL Program, 34 CFR 674.61(b) for the Perkins Loan Program, and 34 CFR 686.42(b) for the TEACH Grant Program. A final rule published on November 1, 2022 (87 FR 65904) made changes to the TPD discharge regulations, including an expansion of the types of SSA disability determinations that qualify a borrower or TEACH Grant recipient for TPD discharge; elimination of the requirement for borrowers who receive TPD discharges based on SSA determinations or a physician's certification to provide documentation of their annual earnings from employment during the 3-year post-discharge monitoring period; and expansion of the categories of medical professionals who may certify an individual's TPD discharge application which necessitate the revision of this information collection.

The Department received emergency clearance on June 28, 2023 since normal processing would not enable the Department to implement the required regulatory changes by July 1, 2023, resulting in several months of delays in providing eligible borrowers with the benefits of the amended TPD discharge regulations and not meeting the requirements of the Master Calendar. Any delay in discharging loans for eligible borrowers would increase the potential for public harm through delayed financial relief to borrowers who would qualify for discharge of their loans under the terms of the amended regulations. As a result, in order to meet the July 1, 2023, implementation date as required by the Master Calendar, the Department requested that OMB approve the collection associated with the implementation of the TPD discharge forms using the emergency clearance procedures. This notice allows the public to comment on the full ICR under the 60-day comment period.

Dated: July 5, 2023.
Kun Mullan,
PRA Coordinator, Strategic Collections and Clearance, Governance and Strategy Division, Office of Chief Data Officer, Office of Planning, Evaluation and Policy Development.

[FR Doc. 2023-14504 Filed 7-7-23; 8:45 am]

BILLING CODE 4000-01-P